DEPARTMENT OF HOUSING AND URBAN DEVELOPMENT

[Docket No. FR-5915-C-05]

60 Day Notice of Proposed Information Collection for License for the Use of Personally Identifiable Information Protected Under the Privacy Act of 1974

AGENCY: Office of Policy Development and Research, HUD.

ACTION: Correction; notice.

SUMMARY: This notice replaces the document HUD published on July 11, 2016 at 81 FR 44891. The proposed information collection requirement described below will be submitted to the Office of Management and Budget (OMB) for review, as required by the Paperwork Reduction Act. The Department is soliciting public comments on the subject proposal.

DATES: Comments Due Date: September 26, 2016.

ADDRESSES: Interested persons are invited to submit comments regarding this proposal. Comments should refer to the proposal by name and/or OMB Control Number and should be sent to: Anna Guido, Reports Management Officer, QDAM, Department of Housing and Urban Development, 451 7th Street SW., Room 4176, Washington, DC 20410-5000; telephone 202-402-5535 (this is not a toll-free number) or email at Anna.P.Guido@hud.gov for a copy of the proposed forms or other available information. Persons with hearing or speech impairments may access this number through TTY by calling the toll-free Federal Relay Service at (800) 877-8339.

FOR FURTHER INFORMATION CONTACT: Anna Guido, Reports Management Officer, QDAM, Department of Housing and Urban Development, 451 7th Street SW., Washington, DC 20410; email Anna Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: The Department will submit the proposed information collection to OMB for review, as required by the Paperwork Reduction Act of 1995 (44 U.S.C. chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond, including through the use of appropriate automated collection techniques or other forms of information technology, e.g., permitting electronic submission of responses.

This notice also lists the following information:

Title of Proposal: License for the Use of Personally Identifiable Information Protected Under the Privacy Act of 1974.

Description of the need for information and proposed use: The United States Department of Housing and Urban Department (HUD) has collected and maintains personally identifiable information, the confidentiality of which is protected by the Privacy Act of 1974 (5 U.S.C. 522A). HUD wishes to make the data available for statistical, research, or evaluation purposes for qualified organizations capable of research and analysis consistent with the statistical, research, or evaluation purposes for which the data were provided or are maintained, but only if the data are used and protected in accordance with the terms and conditions stated in this license (License). Upon receipt of such assurance of qualification and capability, it is hereby agreed between HUD and (Name of the organization to be licensed) that the license be granted.

Estimation of the total number of hours needed to prepare the information collection including number of respondents, frequency of response, and hours of response:

Instrument | Number of respondents | Total annual responses | Hours per response | Total hours
Applicants | 12 | 12 | 1 | 12
Quarterly Reports | 0 | 0 | 0 | 0
Annual Reports | 40 | 40 | 1 | 40
Final Reports | 6 | 6 | .25 | 1.5
Recordkeeping | 12 | 36 | 0.5 | 18
Total | 12 | 94 | 2.75 | 71.5

Status of the proposed information collection: Pending OMB approval.

Authority: Title 12, U.S.C., section 1701z-1 et seq.

Dated: July 20, 2016.
Katherine M. O'Regan,
Assistant Secretary, Office of Policy Development and Research.

[FR Doc. 2016-17778 Filed 7-26-16; 8:45 am]

BILLING CODE 4210-67-P